DEPARTMENT OF THE INTERIOR

National Park Service

[NPS-WASO-NAGPRA-10413; 2200-1100-665]

Notice of Inventory Completion: Fowler Museum at UCLA, Los Angeles, CA

AGENCY: National Park Service, Interior.

ACTION: Notice.

SUMMARY: The Fowler Museum at UCLA has completed an inventory of human remains and associated funerary objects, in consultation with the appropriate Indian tribes, and has determined that there is a cultural affiliation between the human remains and associated funerary objects and present-day Indian tribes. Representatives of any Indian tribe that believes itself to be culturally affiliated with the human remains and associated funerary objects may contact the Fowler Museum at UCLA. Repatriation of the human remains and associated funerary objects to the Indian tribes stated below may occur if no additional claimants come forward.

DATES: Representatives of any Indian tribe that believes it has a cultural affiliation with the human remains and associated funerary objects should contact the Fowler Museum at UCLA at the address below by August 2, 2012.

ADDRESSES: Wendy G. Teeter, Ph.D., Curator of Archaeology, Fowler Museum at UCLA, Box 951549, Los Angeles, CA 90095-1549, telephone (310) 825-1864.

SUPPLEMENTARY INFORMATION: Notice is here given in accordance with the Native American Graves Protection and Repatriation Act (NAGPRA), 25 U.S.C. 3003, of the completion of an inventory of human remains and associated funerary objects in the possession of the Fowler Museum at UCLA, Los Angeles, CA. The human remains and associated funerary objects were removed from the Seven Palms Valley Rancheria, Riverside County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was Made by the Fowler Museum at UCLA's professional staff in consultation with representatives of the Agua Caliente Indian Reservation, California; Morongo Band of Mission Indians, California (formerly the Morongo Band of Cahuilla Mission Indians of the Morongo Reservation); and the Soboba Bando of Luiseno Indians, California (hereafter referred to as “The Tribes.”)

History and Description of the Remains

At an unknown date prior to 1951, human remains representing, at minimum, one individual were removed from the ethnohistoric village site of Seven Palms Valley Rancheria (CA-RIV-154), in Riverside County, CA. In April 1951, Mrs. Frances Foster Cronholm donated this collection to UCLA consisting of human remains of an incomplete adult male and two mountain lion phalanges. No known individuals were identified. The two associated funerary objects are two mountain lion phalanges.

In 1998, Ginger Ridgeway, Curator, Agua Caliente Cultural Museum, determined that the human remains were Native American based on diagnostic traits. Anthony Andreas, Elder, Cahuilla Cultural Historian, identified the location of the site as traditional territory of the Agua Caliente Band of Cahuilla Indians of the Agua Caliente Indian Reservation, California. Britt Wilson, Cultural Director, Morongo Band of Cahuilla Mission Indians of the Morongo Reservation, identified the remains and associated funerary object as culturally affiliated with the Morongo Band of Mission Indians, California. Furthermore, Joe Ontiveros, Cultural Director, Soboba Band of Luiseno Indians identified the Seven Palms Valley Rancheria as within ancestral territory of the Soboba Bando of Luiseno Indians, California. The Fowler Museum at UCLA has determined the human remains and associated funerary objects to be culturally affiliated with The Tribes based on ethnographic, geographic, and linguistic evidence.

Determinations Made by the Fowler Museum at UCLA

Officials of the Fowler Museum at UCLA have determined that:

• Pursuant to 25 U.S.C. 3001(9), the human remains described above represent the physical remains of one individual of Native American ancestry.

• Pursuant to 25 U.S.C. 3001(3)(A), the two objects described above are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Representatives of any other Indian tribe that believes itself to be culturally affiliated with the human remains or associated funerary objects should contact Dr. Wendy G. Teeter, Curator of Archaeology, Fowler Museum at UCLA, Box 951549, Los Angeles, CA 90095-1549, telephone (310) 825-1864 before August 2, 2012. Repatriation of the human remains and associated funerary objects to The Tribes may proceed after that date if no additional claimants come forward.

The Fowler Museum at UCLA is responsible for notifying The Tribes that this notice has been published.

Dated: May 23, 2012.
Sherry Hutt,
Manager, National NAGPRA Program.

[FR Doc. 2012-16206 Filed 7-2-12; 8:45 am]

BILLING CODE 4312-50-P